DEPARTMENT OF LABOR

Office of Workers' Compensation Programs

Agency Information Collection Activities; Comment Request; Voluntary Demographic Form (CM-411); (OMB Control No. 1240-0New)

AGENCY: Division of Coal Mine Workers' Compensation, (OWCP/DCMWC), Labor.

ACTION: Request public comments.

SUMMARY: The Department of Labor (DOL) is soliciting comments concerning the authority to conduct the information collection request (ICR) titled “Voluntary Demographic Form (CM-411).” This comment request is part of continuing Departmental efforts to reduce paperwork and respondent burden in accordance with the Paperwork Reduction Act of 1995 (PRA).

DATES: Consideration will be given to all written comments received by October 10, 2023.

ADDRESSES: You may submit comments as follows. Please note that late, untimely filed comments will not be considered.

Electronic Submissions: Submit electronic comments in the following way:

• Federal eRulemaking Portal: https://www.regulations.gov. Follow the instructions for submitting comments for (DCMWC 1240-0New). [Request docket ID from your agency FDMS.gov docket manager]. Comments submitted electronically, including attachments, to https://www.regulations.gov will be posted to the docket with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP/DCMWC, Office of Workers' Compensation Programs, Division of Coal Mine Workers' Compensation, U.S. Department of Labor, 200 Constitution Ave. NW, Room S-S3323, Washington, DC 20210.

• OWCP/DCMWC will post your comment as well as any attachments, except for information submitted and marked as confidential by the submitting party, in the docket at https://www.regulations.gov.

FOR FURTHER INFORMATION CONTACT: Anjanette Suggs, Office of Workers' Compensation Programs by telephone at 202-354-9660 or by email at suggs.anjanette@dol.gov.

SUPPLEMENTARY INFORMATION:

I. Background

Historically, the Black Lung Program application forms and other claims processing forms have not collected demographic information. The use of this voluntary demographic form will help identify underserved communities and guide language and outreach strategies, thereby strengthening the customer service experience.

Collecting and analyzing demographic data aligns with the following executive orders Executive Orders: Executive Order 13985, Advancing Racial Equity and Support for Underserved Communities Through the Federal Government, signed by President Biden in January 2021; Executive Order 14075, Advancing Equality for Lesbian, Gay, Bisexual, Transgender, Queer, and Intersex Individuals, also signed by President Biden in January 2021; Executive Order 14031, Advancing Equity, Justice, and Opportunity for Asian Americans, Native Hawaiians, and Pacific Islanders, signed in May 2021; and Executive Order 14058, Transforming Federal Customer Experience and Service Delivery to Rebuild Trust in Government, signed in December 2021.

II. Desired Focus of Comments

OWCP/DCMWC is soliciting comments concerning the proposed information collection related to the Voluntary Demographic Form. This request helps to ensure that requested data can be provided in the desired format; reporting burden (time and financial resources) is minimized; collection instruments are clearly understood; and the impact of collection requirements on respondents can be properly assessed. OWCP/DCMWC is particularly interested in comments that:

• Evaluate whether the proposed collection of information is necessary for the proper performance of the functions of the agency, including whether the information will have practical utility;

• Evaluate the accuracy of OWCP/DCMWC's estimate of the burden of the proposed collection of information, including the validity of the methodology and assumptions used in the estimate;

• Suggest methods to enhance the quality, utility, and clarity of the information to be collected; and

• Minimize the burden of the collection of information on those who are to respond, including through the use of appropriate automated, electronic, mechanical, or other technological collection techniques or other forms of information technology, e.g., permitting electronic submission of responses.

Background documents related to this information collection request are available at https://regulations.gov and at DOL-OWCP/DCMWC located at 200 Constitution Ave. NW, Room S3323, Washington, DC 20210. Questions about the information collection requirements may be directed to the person listed in the FOR FURTHER INFORMATION CONTACT section of this notice.

III. Current Actions

This information collection request concerns Voluntary Demographic Form. OWCP/DCMWC is providing the following estimates with respect to the number of respondents, responses, burden hours, and burden costs supporting this information collection request.

Type of Review: New collection 1240-0New.

Agency: Office of Workers' Compensation Programs, Division of Coal Mine Workers' Compensation (OWCP/DCMWC).

OMB Number: 1240-0New.

Form: CM-411 Voluntary Demographic Form, Conducted by The U.S. Department of Labor, 1240-0New.

Affected Public: Individuals or households.

Number of Respondents: 18,077.

Frequency: On Occasion.

Number of Responses: 18,077.

Estimated Average Time per Response: 5 minutes.

Annual Burden Hours: 1,507.

Annual Respondent or Recordkeeper Cost: $2,991.

Comments submitted in response to this notice will be summarized in the request for Office of Management and Budget approval of the proposed information collection. They will become a matter of public record and will be available at https://www.reginfo.gov.

Dated: August 2, 2023.
Anjanette Suggs,
Agency Clearance Officer.

[FR Doc. 2023-16887 Filed 8-7-23; 8:45 am]

BILLING CODE 4510-CK-P